DEPARTMENT OF DEFENSE

Department of the Army

Board of Visitors, United States Military Academy (USMA)

AGENCY: Department of the Army, DoD.

ACTION: Meeting cancellation notice.

SUMMARY: Under the provisions of the Federal Advisory Committee Act of 1972, the Government in the Sunshine Act of 1976 the Department of Defense announces that the Federal advisory committee meeting for March 11, 2025 will not take place.

FOR FURTHER INFORMATION CONTACT: The Committee's Designated Federal Officer or Point of Contact is Mr. David Nagle, (845) 938-3716, david.nagle@westpoint.edu or bov@westpoint.edu.

SUPPLEMENTARY INFORMATION: Due to circumstances beyond the control of the Department of Defense and the Designated Federal Officer, the United States Military Academy Board of Visitors is unable to provide public notification required by 41 CFR 102-3.150(a) concerning the cancellation of its March 11, 2025 meeting. Accordingly, the Advisory Committee Management Officer for the Department of Defense, pursuant to 41 CFR 102-3.150(b), waives the 15-calendar day notification requirement.

1. Name of Committee: United States Military Academy Board of Visitors.

2. Date: Tuesday, March 11, 2025.

3. Time: 9-12 p.m.

4. Location: Caucus Room, Cannon House Office Building, 27 Independence Avenue SE, Washington, DC 20003.

5. Reason for Cancellation: Due to unforeseen circumstances, the USMA Board of Visitors organizational meeting originally scheduled for Tuesday, March 11, 2025, is cancelled.

1. Committee's Designated Federal Officer or Point of Contact: Mr. David Nagle, (845) 938-3716, david.nagle@westpoint.edu.

James W. Satterwhite Jr.,
Army Federal Register Liaison.

[FR Doc. 2025-03528 Filed 3-4-25; 8:45 am]

BILLING CODE 3711-CC-P